DEPARTMENT OF TRANSPORTATION

Federal Highway Administration

Agency Information Collection Activities: Submission for OMB Review

AGENCY: Federal Highway Administration, DOT.

ACTION: Notice.

SUMMARY: The FHWA has forwarded the information collection request described in this notice to the Office of Management and Budget (OMB) for review and comment. We published a Federal Register Notice with a 60-day public comment period on this information collection on May 5, 2000 (65 FR 26269). We are required to publish this notice in the Federal Register by the Paperwork Reduction Act of 1995.

DATES: Please submit comments by October 27, 2000.

ADDRESSES: You may send comments to the Office of Information and Regulatory Affairs, Office of Management and Budget, 725 17th Street, NW., Washington, DC 20503, Attention: DOT Desk Officer. You are asked to comment on any aspect of this information collection, including: (1) Whether the proposed collection is necessary for the FHWA's performance; (2) the accuracy of the estimated burdens; (3) ways for the FHWA to enhance the quality, usefulness, and clarity of the collected information; and (4) ways that the burdens could be minimized, including the use of electronic technology, without reducing the quality of the collected information. A comment to OMB is most effective if OMB receives it within 30 days of publication of this Notice.

FOR FURTHER INFORMATION CONTACT: Ms. Claretta Duren, (202) 366-4636, Infrastructure Core Business Unit, Federal Highway Administration, 400 7th Street, SW., Washington, DC 20590-0001. Office hours are from 7:45 a.m. to 4:15 p.m., e.t., Monday through Friday, except Federal holidays.

SUPPLEMENTARY INFORMATION: OMB Control Number: 2125-0033 (Expiration Date: November 30, 2000).

Title: Statement of Materials and Labor Used by Contractor on Highway Construction Involving Federal Funds.

Abstract: The Federal Highway Administration (FHWA) compiles data on Federal-aid highway construction contracts of $1 million or more and located on the National Highway System to establish highway construction usage factors. These usage factors quantify materials used, such as cement and bitumen, and the amount of aggregates produced and purchased by the contractor. Also quantified are the total labor hours utilized and associated gross earnings. Provisions in 23 CFR 635.126 facilitate the FHWA's efforts to compile this data, which is submitted to the FHWA by contractors and State Departments of Transportation on Form FHWA-47, Statement of Materials and Labor Used by Contractors on Highway Construction Involving Federal Funds. FHWA's estimates of current material usage and cost distribution on Federal-aid highway construction contracts are used by materials suppliers, highway contractors, engineers, economists and others to plan for future needs of the highway construction program and to document information on the usage of materials and labor in highway construction.

Affected Public: Federal-aid highway construction contractors and Departments of Transportation for the 50 States, Puerto Rico and the District of Columbia.

Estimated Total Annual Burden Hours: 8,450. There are an estimated 1,300 required reports annually. Approximately 433 contractors submit an average of 3 forms per year which require an average of 5 hours to complete. The estimated burden hours for the contractors to complete Part B of the form is 6,500 (433 contractors × 15 hours each) or (1,300 projects × 5 hours each). In addition, 52 Transportation Departments, including Puerto Rico and the District of Columbia, complete Part A on an average of 25 forms annually, requiring approximately one and one half (1.5) hours each. The estimated burden hours for the Transportation Departments is 1,950 (52 × 25 forms × 1.5 hours each).

Authority: The Paperwork Reduction Act of 1995; 44 U.S.C. Chapter 35, as amended; and 49 CFR 1.48.

Issued on: September 21, 2000.
James R. Kabel,
Chief, Management Programs and Analysis Division.

[FR Doc. 00-24742 Filed 9-26-00; 8:45 am]

BILLING CODE 4910-22-U